DEPARTMENT OF HEALTH AND HUMAN SERVICES

Health Resources and Services Administration

National Advisory Committee on Rural Health and Human Services; Notice of Meeting

In accordance with section 10(a)(2) of the Federal Advisory Committee Act (Pub. L. 92-463), notice is hereby given of the meeting of the following National Advisory body scheduled to meet during the month of June 2012.

The National Advisory Committee on Rural Health will convene its seventy-first meeting in the time and place specified below:

Name: National Advisory Committee on Rural Health and Human Services.

Dates And Times:

June 18, 2012, 9:00 a.m.-5 p.m.

June 19, 2012, 9:00 a.m.-5 p.m.

June 20, 2012, 8:45 a.m.-11:15 a.m.

Place: Kansas City Marriott Downtown, 200 West 12th Street, Kansas City, MO 64105, (816) 421-6800.

Status: The meeting will be open to the public.

Purpose: The National Advisory Committee on Rural Health and Human Services provides counsel and recommendations to the Secretary with respect to the delivery, research, development, and administration of health and human services in rural areas.

Agenda: At 9:00 a.m. on June 18, the meeting will be called to order by the Honorable Ronnie Musgrove, Chairman of the Committee. The Committee will be examining potential long term impacts on the rural healthcare infrastructure and the intersection of the Child Care and Development Fund and the Head Start program. The day will conclude with a period of public comment at approximately 4:30 p.m.

At approximately 9:00 a.m. on June 19, the Committee will break into Subcommittees and depart for site visits to rural healthcare and human service providers in Kansas and Missouri. One panel from the Health Infrastructure Subcommittee will visit the Hiawatha Community Hospital in Hiawatha, KS. Another panel from the Health Infrastructure Subcommittee will visit Carroll County Memorial Hospital in Carrollton, MO. The Human Services panel will visit a Head Start program in Marshall, MO. The day will conclude at the Kansas City Marriott Downtown with a period of public comment at approximately 4:30 p.m.

At 9:00 a.m. on June 20, the Committee will summarize key findings from the meeting and develop a work plan for the next quarter and the following meeting.

For Further Information Contact: Steve Hirsch, MSLS, Executive Secretary, National Advisory Committee on Rural Health and Human Services, Health Resources and Services Administration, Parklawn Building, Room 5A-05, 5600 Fishers Lane, Rockville, MD 20857, Telephone (301) 443-0835, Fax (301) 443-2803.

Persons interested in attending any portion of the meeting should contact Aaron Wingad at the Office of Rural Health Policy (ORHP) via telephone at (301) 443-0835 or by email at awingad@hrsa.gov. The Committee meeting agenda will be posted on ORHP's Web site http://www.hrsa.gov/advisorycommittees/rural/.

Dated: May 8, 2012.
Reva Harris,
Acting Director, Division of Policy and Information Coordination.

[FR Doc. 2012-11598 Filed 5-11-12; 8:45 am]

BILLING CODE 4165-15-P